DEPARTMENT OF COMMERCE

National Oceanic and Atmospheric Administration

RIN 0648-BA50

Fisheries of the Northeastern United States; Monkfish Fishery; Scoping Process

AGENCY: National Marine Fisheries Service (NMFS), National Oceanic and Atmospheric Administration (NOAA), Commerce.

ACTION: Notice; intent to prepare an environmental impact statement (EIS) and scoping meetings; request for comments.

SUMMARY: The New England Fishery Management Council (NEFMC) announces its intent to prepare an amendment (Amendment 6) to the Fishery Management Plan (FMP) for monkfish (Lophius americanus) and an EIS to analyze the impacts of any proposed management measures. The purpose of Amendment 6 is to consider one or more catch share management approaches for the monkfish fishery, including, but not limited, to Individual Fishery Quotas (IFQs), sectors, and/or community quotas. The NEFMC is initiating a public process to determine the scope of issues and range of alternatives to be addressed in Amendment 6 and its EIS. The purpose of this notification is to alert the interested public of the commencement of the scoping process and to provide for public participation in compliance with environmental documentation requirements.

DATES: Written and electronic scoping comments must be received on or before 5 p.m., local time, February 15, 2011.

ADDRESSES: Written comments on Amendment 6 may be sent by any of the following methods:

• E-mail to the following address: monkfisha6@noaa.gov;

• Mail to Patricia A. Kurkul, Regional Administrator, NMFS, Northeast Regional Office, 55 Great Republic Drive, Gloucester, MA 01930. Mark the outside of the envelope “Scoping Comments on Monkfish Amendment 6;” or

• Fax to Patricia A. Kurkul, 978-281-9135.

Requests for copies of the scoping document and other information should be directed to Paul J. Howard, Executive Director, New England Fishery Management Council, 50 Water Street, Mill 2, Newburyport, MA 01950, telephone 978-465-0492. The scoping document is accessible electronically via the Internet at http://www.nefmc.org.

FOR FURTHER INFORMATION CONTACT: Paul J. Howard, Executive Director, New England Fishery Management Council, 978-465-0492.

SUPPLEMENTARY INFORMATION:

Background

The U.S. monkfish fishery is jointly managed by the New England and Mid-Atlantic Councils, with the NEFMC having the administrative lead. The Councils manage monkfish under a two-area program (northern and southern), primarily due to differences in the characteristics of the fisheries in the two areas, although no conclusive evidence exists supporting the idea that there are two biological stocks. The Monkfish FMP became effective on November 8, 1999. The Councils have modified the management program several times since the original FMP was adopted, most recently in 2010 with the completion of Amendment 5, containing Annual Catch Limits, Annual Catch Targets (ACT) and specification of days-at-sea (DAS) allocations and trip limits for the 2011-2013 fishing years.

While a significant portion of the monkfish catch in both areas is incidental to other fishing activities, a directed fishery also exists. The Councils have adopted incidental catch possession limits for all non-directed fisheries, and currently manages the directed fishery through a combination of DAS allocations and trip limits designed to achieve the ACT.

Measures Under Consideration

The Councils are considering catch shares for the monkfish fishery as a way to improve the economic performance of the fishery by increasing flexibility, maintaining catch within set limits, achieving optimum yield, promoting safety, and reducing the regulatory burden on vessel operators. Additionally, nearly 75-percent of limited access monkfish permit holders also hold a limited access permit in the Northeast multispecies fishery, where a catch share program (in the form of sector management) has been implemented. As a consequence, many monkfish permit holders have requested that the Councils consider a catch share program in the monkfish fishery to coordinate the management and improve the performance of both fisheries.

“Catch shares” is a generic term for a fishery management program that allocates a specific portion of a total fishery catch to individuals, communities, or cooperatives (including sectors). In contrast to managing through effort or input controls such as DAS and trip limits, catch shares management focuses on allocating and monitoring the catch or output controls. Specific catch share approaches include, but are not limited to, IFQs, Individual Transferrable Quotas (ITQs), Community Quotas, Harvest Cooperatives (including “sectors” such as those as recently adopted in the Northeast Multispecies FMP), area-based fishing rights, and non-vessel allocations (e.g., dealer or processor shares). At this stage in the amendment process, the Councils have not eliminated any of the various types of catch share management approaches from consideration. Rather, they intend to collect early comments from stakeholders and interested parties to guide them in the development of appropriate catch-share alternatives. The Councils are also interested in hearing from stakeholders what their concerns might be with various catch share elements, including, but not limited to, limits on accumulation of shares, costs of monitoring individual catch, barriers or incentives for new entrants, and the effect of consolidation on fishing communities.

The Magnuson-Stevens Fishery Conservation and Management Act (MSA) authorizes and provides a regulatory framework for Councils to establish Limited Access Privilege Programs (LAPPs), of which ITQs are one type. In addition to the requirements and standards for all LAPPs, the MSA requires the NEFMC specifically to hold a referendum and gain approval of more than two-thirds of the voters for an IFQ program prior to submitting the plan to NMFS. The Councils will determine who is eligible to participate in the referendum from among the potential pool that includes permit holders and crew members who derive a significant part of their total income from the fishery. If an IFQ system is adopted, the Council would allocate individual proportions of the available catch to qualified participants who may then be allowed, under yet-unspecified terms and restrictions, to buy, sell, trade or otherwise transfer their shares to other entities or participants.

Scoping Process

All persons affected by or otherwise interested in monkfish fishery management are invited to participate in determining the scope and significance of issues to be analyzed by submitting written comments (see ADDRESSES) or by attending one of the meetings where scoping comments will be taken. Scoping consists of identifying the range of actions, alternatives (including taking no action), and impacts to be considered in developing an amendment that addresses the purposes and goals discussed in this notice. Impacts may be direct, indirect, or cumulative. This scoping process will also identify and eliminate from detailed analysis issues that are not significant, as well as alternatives that do not achieve the goals of the FMP or this amendment.

The scoping process for Amendment 5 to the Monkfish FMP (74 FR 7880; February 20, 2009) also considered the development of a catch share program for the monkfish fishery in the range of issues to be considered in that amendment. However, by September 2009, the Councils recognized that, due to their complexity, development of catch share alternatives would likely delay Amendment 5, and risk not meeting the statutory deadline for annual catch limits and accountability measures under the MSA. At that time, the Councils agreed to separate the catch shares portion of the amendment to focus on the remaining elements, and consider catch shares in the next management action. Any comments concerning the development of a catch share program for the monkfish fishery that were received in conjunction with the scoping process for Amendment 5 will be carried forward in the development of Amendment 6.

After the scoping process is completed, the NEFMC will identify the range of alternatives to be considered in the Amendment 6, and to be analyzed in the EIS. Once a draft amendment document, including a draft EIS, is completed, the NEFMC will hold public hearings to receive comments on the alternatives and the analysis of its impacts presented in the draft EIS. Following that public comment period, the NEFMC will identify its proposed action and complete a final amendment document that includes a final EIS, as well as documentation and analysis required by all other applicable laws. The NEFMC will then submit the amendment to NMFS for review, approval and implementation.

Scoping Hearing Schedule

At this time, only one scoping meeting is scheduled. The Councils will schedule additional meetings in the near future, and announce those meetings in the Federal Register, as well as on the Councils' Web site and through other channels. The first scheduled meeting is to be held in conjunction with the Mid-Atlantic Fishery Management Council meeting:

1. Wednesday, December 15, 2010, 4:30 p.m.; Hilton Beach Oceanfront, 3001 Atlantic Avenue, Virginia Beach, VA 23451, telephone: (757) 213-3000.

Special Accommodations

The meetings are accessible to people with physical disabilities. Requests for sign language interpretation or other auxiliary aids should be directed to Paul J. Howard (see ADDRESSES) at least 5 days prior to this meeting date.

Authority: 16 U.S.C. 1801 et seq.

Dated: November 24, 2010.
Emily H. Menashes,
Acting Director, Office of Sustainable Fisheries, National Marine Fisheries Service.

[FR Doc. 2010-30179 Filed 11-29-10; 8:45 am]

BILLING CODE 3510-22-P